DEPARTMENT OF DEFENSE

Department of the Army

Advisory Committee on Arlington National Cemetery Meeting Notice

AGENCY: Department of the Army, DoD.

ACTION: Notice of open committee meeting.

SUMMARY: The Department of the Army is publishing this notice to announce the following meeting of the Advisory Committee on Arlington National Cemetery (ACANC). This meeting is open to the public. For more information, please visit: https://www.arlingtoncemetery.mil/About/Advisory-Committee-on-Arlington-National-Cemetery/ACANC-Meetings.

DATES: The ACANC will meet on Thursday, February 29, 2023, from 9 a.m. to 12 p.m. Eastern Time.

ADDRESSES: Multipurpose Room of the Welcome Center at Arlington National Cemetery, Arlington, Virginia 22211.

FOR FURTHER INFORMATION CONTACT: Ms. Renea Yates, Designated Federal Officer (DFO) for the ACANC, or Mr. Matthew Davis, Alternate Designated Federal Officer (ADFO) for the ACANC, Arlington National Cemetery (ANC), Arlington, VA 22211; by email at matthew.r.davis.civ@army.mil; or by phone at 1-877-907-8585.

SUPPLEMENTARY INFORMATION: This meeting is being held under the provisions of the Federal Advisory Committee Act (FACA; 5 U.S.C. 10), the Government in the Sunshine Act of 1976 (5 U.S.C. 552b), and 41 CFR 102-3.150.

Purpose of the Meeting: The ACANC provides independent advice and recommendations to the Secretary of the Army on matters related to ANC, including, but not limited to, cemetery administration, the erection of memorials at the cemetery, and master planning for the cemetery. The Secretary of the Army may act on the Committee's advice and recommendations.

Agenda: The Committee will receive a status report of the planning for final disposition of the Confederate Memorial; receive a briefing on digital engagement strategy for Arlington National Cemetery; receive a status update on the progress of objectives at Arlington National Cemetery; and receive an update on the Military Equine Status.

Public's Accessibility to the Meeting: Pursuant to FACA and 41 CFR 102-3.140 through 102-3.165, this meeting is open to the public.

Procedures for Attendance and Public Comment: To attend this meeting, contact Mr. Matthew Davis, the ADFO. (See the information listed in the FOR FURTHER INFORMATION CONTACT section; email is preferred.) Individuals will be asked to submit their full name, organization, email address, and phone number to attend. Public attendance will be via physical presence.

For additional information about public access procedures, contact Mr. Matthew Davis, the ADFO. (See the information listed in the FOR FURTHER INFORMATION CONTACT section; email is preferred.)

Written Comments and Statements: Pursuant to 5 U.S.C. 1009(a)(3), 41 CFR 102-3.105(j), and 41 CFR 102-3.140, the public or interested organizations may submit written comments or statements to the ACANC either in response to the stated agenda of the open meeting or regarding the ACANC's mission in general. Written comments or statements should be submitted to Mr. Matthew Davis, the ADFO. (See the information listed in the FOR FURTHER INFORMATION CONTACT section; email is preferred.) Each page of the comment or statement must include the author's name, title or affiliation, address, and daytime phone number. Written comments or statements being submitted in response to the agenda set forth in this notice must be received by the ADFO at least seven business days prior to the meeting to be considered by the ACANC. Written comments or statements received after this date may not be provided to the ACANC until its next meeting. The DFO will review all timely written comments or statements with the ACANC Chairperson and will ensure such comments or statements are provided to all ACANC members before the meeting.

Pursuant to 41 CFR 102-3.140d, the ACANC is not obligated to allow any member of the public to speak or otherwise address the ACANC during the meeting. Members of the public may be permitted to make verbal comments during these meetings and if allowed, verbal comments may only be made at the time and in the manner described below. If a member of the public is interested in making a verbal comment at the open meeting, the individual must submit a request to the ADFO with a brief statement of the subject matter to be addressed by the comment. (See the information listed in the FOR FURTHER INFORMATION CONTACT section; email is preferred.) The request must be submitted to the ADFO at least three business days before the meeting. The ADFO will log each request in the order received. In consultation with the Chairperson(s), the DFO will determine whether the subject matter of each comment is relevant to the ACANC mission and/or to the agenda of this public meeting. Members of the public who asked to make a verbal comment and whose comments are deemed relevant under the process described above will be invited to speak in the order in which the ADFO received their request. The appropriate Chairperson(s) may allot a specific amount of time for verbal comments.

James W. Satterwhite, Jr.,
Army Federal Register Liaison Officer.

[FR Doc. 2024-03066 Filed 2-13-24; 8:45 am]

BILLING CODE 3711-02-P